DEPARTMENT OF HOUSING AND URBAN DEVELOPMENT

[Docket No. FR-4730-N-48]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Mark Johnston, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Shirley Kramer, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AIR FORCE: Ms. Barbara Jenkins, Air Force Real Estate Agency, (Area-MI), Bolling Air Force Base, 112 Luke Avenue, Suite 104, Building 5683, Washington, DC 20332-8020; (202) 767-4184; COE: Ms. Shirley Middleswarth, Army Corps of Engineers, Management & Disposal Division, 441 G Street, Washington, DC 20314-1000; (202) 761-7425; GSA: Mr. Brian K. Polly, Assistant Commissioner, General Services Administration, Office of Property Disposal, 18th and F Streets, NW., Washington, DC 20405; (202) 501-0052; INTERIOR: Ms. Linda Tribby, Acquisition & Property Management, Department of the Interior, 1849 C. Street, NW., Washington, DC 20240; (202) 219-0728; NAVY: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: November 21, 2002.
John D. Garrity,
Director, Office of Special Needs Assistance Programs.

TITLE V, FEDERAL SURPLUS PROPERTY PROGRAM FEDERAL REGISTER REPORT FOR 11/29/02

Suitable/Available Properties

Buildings (by State)

Iowa

Former Navy Housing

Waverly Co: Bremer IA

Landholding Agency: Interior

Property Number: 61200240001

Status: Unutilized

Comment: 23 single family homes/lift station house, sq. ft. varies, needs rehab, presence of asbestos/lead paint, no sanitary facilities.

Mississippi

Post Office/Courthouse

820 Crawford Street

Vicksburg Co: Warren MS 39180-

Landholding Agency: GSA

Property Number: 54200240013

Status: Surplus

Comment: 14,000 sq. ft., needs rehab, presence of asbestos, historic preservation covenant required, portion occupied by Federal tenants

GSA Number: 4-G-MS-0559.

South Dakota

Residence

Tract 109

Pierre Co: Hughes SD

Landholding Agency: COE

Property Number: 31200240002

Status: Excess

Comment: 960 sq. ft., off-site use only.

Residence

Tract 118

Pierre Co: Hughes SD

Landholding Agency: COE

Property Number: 31200240003

Status: Excess

Comment: 912 sq. ft., off-site use only.

Residence

Tract 131

Pierre Co: Hughes SD

Landholding Agency: COE

Property Number: 31200240004

Status: Excess

Comment: 912 sq. ft., off-site use only.

Residence

Tract 141

Pierre Co: Hughes SD

Landholding Agency: COE

Property Number: 31200240005

Status: Excess

Comment: 936 sq. ft., off-site use only.

Residence

Tract 514

Ft. Pierre Co: Stanley SD

Landholding Agency: COE

Property Number: 31200240006

Status: Excess

Comment: 1426 sq. ft., off-site use only.

Residence

Tract 516

Ft. Pierre Co: Stanley SD

Landholding Agency: COE

Property Number: 31200240007

Status: Excess

Comment: 2264 sq. ft., off-site use only.

Land (by State)

Kentucky

Tract No. F-610

Buckhorn Lake Project

Buckhorn Co: KY 41721-

Landholding Agency: COE

Property Number: 31200240001

Status: Unutilized

Comment: 0.64 acres, encroachments, most recent use—flood control purposes.

Pennsylvania

Bldg. 201

Pittsburgh IAP

Corapolis Co: Allegheny PA 15108-

Landholding Agency: Air Force

Property Number: 18200240014

Status: Excess

Comment: 310 sq. ft., most recent use—storage.

Bldg. 203

Pittsburgh IAP

Corapolis Co: Allegheny PA 15108-

Landholding Agency: Air Force

Property Number: 18200240015

Status: Excess

Comment: 4163 sq. ft., most recent use—vehicle maint. shop.

Bldg. 208

Pittsburgh IAP

Corapolis Co: Allegheny PA 15108-

Landholding Agency: Air Force

Property Number: 18200240016

Status: Excess

Comment: 144 sq. ft., most recent use—storage.

Bldg. 210

Pittsburgh IAP

Corapolis Co: Allegheny PA 15108-

Landholding Agency: Air Force

Property Number: 18200240017

Status: Excess

Comment: 263 sq. ft., most recent use—storage.

Bldg. 211

Pittsburgh IAP

Corapolis Co: Allegheny PA 15108-

Landholding Agency: Air Force

Property Number: 18200240018

Status: Excess

Comment: 1731 sq. ft., most recent use—office.

Unsuitable Properties

Buildings (by State)

Alaska

Bldg. 8354

Elmendorf AFB

Elmendorf AFB Co: AK 99506-

Landholding Agency: Air Force

Property Number: 18200240001

Status: Unutilized

Reason: Extensive deterioration.

Bldg. 11827

Elmendorf AFB

Elmendorf AFB Co: AK 99506-

Landholding Agency: Air Force

Property Number: 18200240002

Status: Unutilized

Reasons: Within 2000 ft. of flammable or explosive material, Secured Area.

California

Bldg. 394

Space & Naval Warfare

Systems Center

San Diego Co: CA

Landholding Agency: Navy

Property Number: 77200240041

Status: Unutilized

Reason: Extensive deterioration.

Bldg. 428

Space & Navel Warfare

Systems Center

San Diego Co: CA

Landholding Agency: Navy

Property Number: 77200240042

Status: Unutilized

Reason: Extensive deterioration.

Florida

Bldg. C-26

Naval Air Station

Key West Co: Monroe FL 33040-

Landholding Agency: Navy

Property Number: 77200240043

Status: Unutilized

Reason: Extensive deterioration.

Bldg. F-44

Naval Air Station

Key West Co: Monroe FL 33040-

Landholding Agency: Navy

Property Number: 77200240044

Status: Unutilized

Reason: Extensive deterioration.

Hawaii

Bldg. T47

Naval Shipyard

Pearl Harbor Co: Honolulu HI 96860-5350

Landholding Agency: Navy

Property Number: 77200240045

Status: Unutilized

Reason: Extensive deterioration.

Idaho

Bldg. 1328

Mountain Home AFB

Mountain Home Co: Elmore ID 83648-

Landholding Agency: Air Force

Property Number: 18200240003

Status: Excess

Reason: Within 2000 ft. of flammable or explosive material

Minnesota

Parcel B

Twin Cities Army Ammunition

Plant

Arden Hills Co: MN 55112-3938

Landholding Agency: GSA

Property Number: 54200240015

Status: Excess

Reason: Within 2000 ft. of flammable or explosive material

GSA Number: 1-D-MN-0578B.

Montana

Bldg. 547

Malmstrom AFB

Malmstrom AFB Co: Cascade MT 59402-

Landholding Agency: Air Force

Property Number: 19200240004

Status: Unutilized

Reason: Within 2000 ft. of flammable or explosive material Secured Area.

Bldg. 769

Malmstrom AFB

Malmstrom AFB Co: Cascade MT 59402-

Landholding Agency: Air Force

Property Number: 18200240005

Status: Unutilized

Reason: Within 2000 ft. of flammable or explosive material Secured Area.

Bldg. 1084

Malmstrom AFB

Malmstrom AFB Co: Cascade MT 59402-

Landholding Agency: Air Force

Property Number: 18200240006

Status: Unutilized

Reason: Within 2000 ft. of flammable or explosive material Secured Area.

Bldg. 2025

Malmstrom AFB

Malmstrom AFB Co: Cascade MT 59402-

Landholding Agency: Air Force

Property Number: 18200240007

Status: Unutilized

Reason: Secured Area.

Oklahoma

Comfort Station

LeFlore Landing PUA

Sallisaw Co: LeFlore OK 74955-9445

Landholding Agency: COE

Property Number: 31200240008

Status: Excess

Reason: Within 2000 ft. of flammable or explosive material Secured Area.

Comfort Station

Braden Bend PUA

Sallisaw Co: LeFlore OK 74955-9445

Landholding Agency: COE

Property Number: 31200240009

Status: Excess

Reason: Extensive deterioration.

Water Treatment Plant

Salt Creek Cove

Sawyer Co: Choctaw OK 74756-0099

Landholding Agency: COE

Property Number: 31200240010

Status: Excess

Reason: Extensive deterioration.

Water Treatment Plant

Wilson Point

Sawyer Co: Choctaw OK 74756-0099

Landholding Agency: COE

Property Number: 31200240011

Status: Excess

Reason: Extensive deterioration.

2 Comfort Stations

Landing PUA/Juniper Point

PUA

Stigler Co: McIntosh OK 74462-9440

Landholding Agency: COE

Property Number: 31200240012

Status: Excess

Reason: Extensive deterioration.

Filter Plant/Pumphouse

South PUA

Stigler Co: McIntosh OK 74462-9440

Landholding Agency: COE

Property Number: 31200240013

Status: Excess

Reason: Extensive deterioration.

Filter Plant/Pumphouse

North PUA

Stigler Co: McIntosh OK 74462-9440

Landholding Agency: COE

Property Number: 31200240014

Status: Excess

Reason: Extensive deterioration.

Filter Plant/Pumphouse

Juniper Point PUA

Stigler Co: McIntosh OK 74462-9440

Landholding Agency: COE

Property Number: 31200240015

Status: Excess

Reason: Extensive deterioration.

Comfort Station

Juniper Point PUA

Stigler Co: McIntosh OK 74462-9440

Landholding Agency: COE

Property Number: 31200240016

Status: Excess

Reason: Extensive deterioration.

Comfort Station

Brooken Cove PUA

Stigler Co: McIntosh OK 74462-9440

Landholding Agency: COE

Property Number: 31200240017

Status: Excess

Reason: Extensive deterioration.

Pennsylvania

Bldg. 220009

Naval Support Activity

Philadelphia Co: PA 19111-5098

Landholding Agency: Navy

Property Number: 77200240046

Status: Excess

Reasons: Secured Area, Extensive deterioration.

Rhode Island

Facility 6

Quonset State Airport

N. Kingstown Co: RI 02852-7545

Landholding Agency: Air Force

Property Number: 1820024008

Status: Unutilized

Reason: Within 2000 ft. of flammable or explosive material.

Facility 16

Quonset State Airport

N. Kingstown Co: RI 02852-7545

Landholding Agency: Air Force

Property Number: 18200240009

Status: Unutilized

Reason: Within 2000 ft. of flammable or explosive material.

Texas

6 Bldgs.

Ellington Field

1277, 1381, 1385, 1386,

1388, 1249

Houston Co: Harris TX 77034-5586

Landholding Agency: Air Force

Property Number: 18200240010

Status: Excess

Reason: Extensive deterioration.

Comfort Station

Overlook PUA

Powderly Co: Lamar TX 75473-9801

Landholding Agency: COE

Property Number: 31200240018

Status: Excess

Reason: Extensive deterioration.

Bldg. 1082

Naval Air Station

Ft. Worth Co: Tarrant TX 76127-

Landholding Agency: Navy

Property Number: 77200240047

Status: Unutilized

Reason: Extensive deterioration.

Bldg. 1078

Naval Air Station

Ft. Worth Co: Tarrant TX 76127-

Landholding Agency: Navy

Property Number: 77200240048

Status: Unutilized

Reason: Extensive deterioration.

Bldg. 1080

Naval Air Station

Ft. Worth Co: Tarrant TX 76127-

Landholding Agency: Navy

Property Number: 77200240049

Status: Unutilized

Reason: Extensive deterioration.

Bldg. 1241

Naval Air Station

Ft. Worth Co: Tarrant TX 76127-

Landholding Agency: Navy

Property Number: 77200240050

Status: Unutilized

Reason: Extensive deterioration.

Bldg. 1828

Naval Air Station

Ft. Worth Co: Tarrant TX 76127-

Landholding Agency: Navy

Property Number: 77200240051

Status: Unutilized

Reason: Extensive deterioration.

Bldg. 3340

Naval Air Station

Ft. Worth Co: Tarrant TX 76127-

Landholding Agency: Navy

Property Number: 77200240052

Status: Unutilized

Reason: Extensive deterioration.

Virginia

Bldg. 417

Camp Pendleton

Virginia Beach Co: VA 23451-

Landholding Agency: Air Force

Property Number: 18200240011

Status: Excess

Reasons: Secured Area, Extensive deterioration.

Bayview Tower

Langley AFB

Langley AFB Co: VA 23665-

Landholding Agency: Air Force

Property Number: 18200240012

Status: Unutilized

Reason: Floodway.

Pier R-1

Naval Weapons Station

Yorktown Co: VA 23691-

Landholding Agency: Navy

Property Number: 77200240053

Status: Unutilized

Reasons: Within 2000 ft. of flammable or explosive material, Secured Area.

Bldg. 709

Naval Weapons Station

Yorktown Co: VA 23691-

Landholding Agency: Navy

Property Number: 77200240054

Status: Unutilized

Reasons: Within 2000 ft. of flammable or explosive material, Secured Area.

Bldg. M-15

Naval Station

Norfolk Co: VA 23511-3095

Landholding Agency: Navy

Property Number: 77200240055

Status: Excess

Reason: Extensive deterioration.

Bldg. NM-79

Naval Station

Norfolk Co: VA 23511-3095

Landholding Agency: Navy

Property Number: 77200240056

Status: Excess

Reason: Extensive deterioration.

Bldg. Z-216

Naval Station

Norfolk Co: VA 23511-3095

Landholding Agency: Navy

Property Number: 77200240057

Status: Excess

Reason: Extensive deterioration.

Washington

Rec Storage Bldg.

Richland Parks

Richland Co: Benton WA 93352-

Landholding Agency: COE

Property Number: 31200240019

Status: Unutilized

Reason: Extensive deterioration.

Wyoming

Bldg. 360

F.E. Warren AFB

Cheyenne Co: Laramie WY 82005-5000

Landholding Agency: Air Force

Property Number: 18200240013

Status: Unutilized

Reasons: Secured Area, Extensive deterioration.

Land (by State)

Minnesota

Parcel A

Twin Cities Army Ammunition Plant

Arden Hills Co: MN 55112-3938

Landholding Agency: GSA

Property Number: 54200240014

Status: Excess

Reason: Within 2000 ft. of flammable or explosive material

GSA Number: 1-D-MN-0578A.

Washington

2.8 acres

Tract P-1003

Kennewick Co: Benton WA 99336-

Landholding Agency: COE

Property Number: 31200240020

Status: Excess

Reason: Within 2000 ft. of flammable or explosive material.

[FR Doc. 02-30015 Filed 11-27-02; 8:45 am]

BILLING CODE 4210-29-M